ENVIRONMENTAL PROTECTION AGENCY

[FRL-7093-5]

Proposed CERCLA Administrative Order on Consent for Removal Action—Service First Barrel and Drum Site, Salt Lake City, Salt Lake County, Utah

AGENCY: Environmental Protection Agency (EPA).

ACTION: Notice and request for public comment.

SUMMARY: In accordance with the requirements of section 122(h)(1) of the Comprehensive Environmental Response, Compensation, and Liability Act, as amended (“CERCLA”), 42 U.S.C. 9622(h)(1), notice is hereby given of the proposed administrative settlement under section 122(h) of CERCLA, 42 U.S.C. 9622(h), concerning the Service First Barrel and Drum site, between EPA and Redwood Development, LLC (“Settling Party”). The Service First Barrel and Drum Site is located at 1066 South Redwood Road, in Salt Lake City, Salt Lake County, Utah (the “Site”). The settlement, embodied in the proposed Administrative Order on Consent for Removal Action, EPA Docket No. CERCLA-8-2002-01 (“AOC”), is designed to resolve the Settling Party's liability at the Site through work to be performed and a covenant not to sue for all response costs incurred and to be incurred by EPA in connection with removal activities at the Site.

Redwood Development, LLC is the owner of a parcel of land which was impacted by business operations at Service First Barrel and Drum and is included within the defined boundaries of the Site. The proposed AOC will settle Settling Party's liability under section 107(a)(1) of CERCLA, 42 U.S.C. 9607(a)(1). Under the terms of the proposed AOC, the Settling Party agrees to conduct a cleanup of the contamination on the Settling Party's property. In exchange, the Settling Party will settle its liability for all response costs incurred at the Site in connection with removal activities and will receive contribution protection from other parties associated with the Site.

Opportunity for Comment: For thirty (30) days following the date of publication of this notice, the Agency will consider all comments received on the covenant not to sue portion of the AOC only (section XIII) and may modify or withdraw its consent to the settlement if comments received disclose facts or considerations which indicate that the settlement is inappropriate, improper, or inadequate. The Agency's response to any comments received will be available for public inspection at the EPA Superfund Record Center, 999 18th Street, 5th Floor, in Denver, Colorado.

DATES: Comments must be submitted on or before November 29, 2001.

ADDRESSES: The proposed settlement and additional background information relating to the settlement are available for public inspection at the EPA Superfund Records Center, 999 18th Street, 5th Floor, in Denver, Colorado. Comments and requests for a copy of the proposed settlement should be addressed to Carol Pokorny, Enforcement Specialist (8ENF-T), Technical Enforcement Program, U.S. Environmental Protection Agency, 999 18th Street, Suite 300, Denver, Colorado 80202-2466, and should reference the Service First Barrel and Drum Site, Salt Lake City, Utah, and the EPA Docket No. CERCLA-8-2002-01 (Redwood Development AOC).

FOR FURTHER INFORMATION CONTACT: Carol Pokorny, Enforcement Specialist (8ENF-T), Technical Enforcement Program, U.S. Environmental Protection Agency, 999 18th Street, Suite 300, Denver, Colorado 80202-2466, (303) 312-6970.

Dated: October 12, 2001.
Carol Rushin,
Assistant Regional Administrator, Office of Enforcement, Compliance and Environmental Justice, Region VIII.

[FR Doc. 01-27288 Filed 10-29-01; 8:45 am]

BILLING CODE 6560-50-P